MARINE MAMMAL COMMISSION

Meeting of Advisory Committee on Acoustic Impacts on Marine Mammals

AGENCY: Marine Mammal Commission.

ACTION: Notice of advisory committee meeting.

SUMMARY: The Marine Mammal Commission (Commission) will hold the second meeting of its Advisory Committee on Acoustic Impacts on Marine Mammals (Committee) April 28-30, 2004, in Arlington, VA.

DATES: The Committee will meet Wednesday, April 28, 2004, from 9 a.m. to 5 p.m.; Thursday, April 29, from 8:30 a.m. to 5 p.m.; and Friday, April 30, from 8:30 a.m. to 12 p.m. This meeting is open to the public. These times and the agenda topics described below are subject to change. Please refer to the Commission's Web site (www.mmc.gov) for the most up-to-date meeting information. The Committee's third public meeting is tentatively scheduled for July 27-29, 2004, in San Francisco, California. Further information on that meeting will be published in the Federal Register and posted on the Commission's Web site.

ADDRESSES: The April 28-30 meeting will be held at the Sheraton Crystal City Hotel, 1800 Jefferson Davis Highway, Arlington, VA 22202, phone (703) 486-1111, fax (703) 769-3955, http://www.starwood.com/sheraton/search/hotel_detail.html?propertyID=741.

FOR FURTHER INFORMATION CONTACT: Erin Vos, Sound Project Manager, Marine Mammal Commission, 4340 East-West Hwy., Rm. 905, Bethesda, MD 20814, e-mail: evos@mmc.gov, tel.: (301) 504-0087, fax: (301) 504-0099; or visit the Commission Web site at www.mmc.gov.

SUPPLEMENTARY INFORMATION: This meeting is to be held pursuant to the directive in the Omnibus Appropriations Act of 2003 (Pub. L. 108-7) that the Commission convene a conference or series of conferences to “share findings, survey acoustic ‘threats’ to marine mammals, and develop means of reducing those threats while maintaining the oceans as a global highway of international commerce.” The meeting agenda includes presentations and panel discussions on (1) past and present efforts to assess the risk to marine mammals from anthropogenic sound, (2) examples of risk assessment methods, and (3) the NOAA Fisheries Noise Exposure Criteria as an emerging approach to risk assessment. The agenda also includes two public comment sessions. Guidelines for making public comments, background documents, and the meeting agenda, including the specific times of public comment periods, will be posted on the Commission's Web site prior to the meeting. Written comments may be submitted at the meeting.

Dated: April 6, 2004.
David Cottingham,
Executive Director.

[FR Doc. 04-8210 Filed 4-9-04; 8:45 am]

BILLING CODE 6820-31-M